DEPARTMENT OF HEALTH AND HUMAN SERVICES

Centers for Disease Control and Prevention

Scientific Consultation: Meeting

The Centers for Disease Control and Prevention (CDC) announces the following meeting:

Name: Protocol Review for Neurodevelopmental Evaluation Study.

Times and Dates: 10:30 a.m.-5:30 p.m., March 26, 2001; 8:30 a.m.-3:30 p.m., March 27, 2001.

Place: Atlanta Marriott Century Center, 2000 Century Boulevard, NE., Atlanta, GA 30345-3377. Telephone: (404) 325-0000.

Status: Open to the public, limited only by space available.

Purpose: The Centers for Disease Control and Prevention announces a meeting of expert consultants.

Matters to be Discussed: The agenda will include the review and discussion on the design of a protocol for a neurodevelopmental examination study looking at thimerosal containing vaccines and the possible association with selected neurodevelopmental outcomes. A period for public comment will be made available each day. Individuals wishing to provide public comment should notify the contact person listed in this announcement.

Contact Person for More Information: Gina Mootrey, D.O., M.P.H., Senior Research Officer, Vaccine Safety and Development Activity, Epidemiology and Surveillance Division, National Immunization Program, CDC, 1600 Clifton Road, NE, m/s E61, Atlanta, Georgia 30333. Telephone (404)639-8256.

The Director, Management Analysis and Services office has been delegated the authority to sign Federal Register notices pertaining to announcements of meetings and other committee management activities for both the Centers for Disease Control and Prevention and the Agency for Toxic Substances and Disease Registry.

Dated: March 8, 2001.
Carolyn J. Russell,
Director, Management Analysis and Services Office, Centers for Disease Control and Prevention.

[FR Doc. 01-6298 Filed 3-13-01; 8:45 am]

BILLING CODE 4163-18-U